DEPARTMENT OF VETERANS AFFAIRS

[OMB Control No. 2900-0002]

Agency Information Collection Activity Under OMB Review: Application for Veterans Pension and Income, Asset, and Employment Statement

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0002”.

FOR FURTHER INFORMATION CONTACT: Danny S. Green, Enterprise Records Service (005R1B), Department of Veterans Affairs, 811 Vermont Avenue NW, Washington, DC 20420, (202) 421-1354 or email danny.green2@va.gov. Please refer to “OMB Control No. 2900-0002” in any correspondence.

SUPPLEMENTARY INFORMATION:

Authority: 38 U.S.C. 1502, 38 U.S.C. 1503 & 38 U.S.C. 5101(a).

Title: Application for Veterans Pension (VA Form 21P-527EZ) and Income, Asset, and Employment Statement (VA Form 21P-527).

OMB Control Number: 2900-0002.

Type of Review: Revision of a currently approved collection.

Abstract: VA Form 21P-527EZ, is the prescribed form for claiming Veterans Pension under the Fully Developed Claim program. VA Form 21P-527 is used to gather the necessary information to determine a veteran's eligibility for Veterans Pension. Without this information, VA will not be able to determine a Veteran's eligibility to the benefit. A Veteran may also use this form to file a new Veterans Pension claim after VA has discontinued a previous pension award and the Veteran is requesting his or her benefits be reinstated. Without this information, VA will not be able to determine a Veteran's eligibility to the benefit.

An agency may not conduct or sponsor, and a person is not required to respond to a collection of information unless it displays a currently valid OMB control number. The Federal Register Notice with a 60-day comment period soliciting comments on this collection of information was published at 85 FR 114 on June 14, 2020, pages 35996 and 35997.

Affected Public: Individuals or Households.

Estimated Annual Burden: 56,250 hours.

Estimated Average Burden per Respondent: 33.75 minutes.

Frequency of Response: One time.

Estimated Number of Respondents: 100,000.

By direction of the Secretary.
Danny S. Green,
VA PRA Clearance Officer, Office of Quality, Performance and Risk (OQPR), Department of Veterans Affairs.

[FR Doc. 2020-21134 Filed 9-24-20; 8:45 am]

BILLING CODE 8320-01-P